UNITED STATES SENTENCING COMMISSION

Sentencing Guidelines for United States Courts

AGENCY: United States Sentencing Commission.

ACTION: Notice of final policy priorities for amendment cycle ending May 1, 2003.

SUMMARY: In June 2002, the Commission published a notice of possible policy priorities for the amendment cycle ending May 1, 2003. See 67 FR 42308 (June 21, 2002). After reviewing public comment received pursuant to this notice, the Commission has identified its policy priorities for the upcoming amendment cycle. The Commission hereby gives notice of these policy priorities.

FOR FURTHER INFORMATION CONTACT: Michael Courlander, Public Affairs Officer, Telephone: (202) 502-4590.

SUPPLEMENTARY INFORMATION: The United States Sentencing Commission, an independent commission in the judicial branch of the United States Government, is authorized by 28 U.S.C. 994(a) to promulgate sentencing guidelines and policy statements for federal courts. Section 994 also directs the Commission periodically to review and revise promulgated guidelines and authorizes it to submit guideline amendments to Congress not later than the first day of May each year. See 28 U.S.C. 994(o), (p).

As part of its statutory authority and responsibility to analyze sentencing issues, including operation of the federal sentencing guidelines, the Commission has identified certain priorities as the focus of its policy development work, including possible amendments to guidelines, policy statements, and commentary, for the amendment cycle ending May 1, 2003. While the Commission intends to address these priority issues, it recognizes that other factors, such as the enactment of legislation requiring Commission action, may affect the Commission's ability to complete work on all of the identified policy priorities by the statutory deadline of May 1, 2003. The Commission may address any unfinished policy work from this agenda during the amendment cycle ending May 1, 2004.

For the amendment cycle ending May 1, 2003, and possibly continuing into the amendment cycle ending May 1, 2004, the Commission has identified the following policy priorities: (1) Implementation of the Sarbanes-Oxley Act of 2002, Pub. L. 107-204, which pertains to corporate fraud, securities fraud, as well as other general types of fraud, and requires the Commission to promulgate amendments under emergency amendment authority; (2) implementation of the Bipartisan Campaign Reform Act of 2002, Pub. L. 107-155, which requires the Commission to promulgate amendments under emergency amendment authority; (3) in conjunction with its work on the Bipartisan Campaign Reform Act of 2002, a review of the public corruption guidelines in Chapter Two, Part C (Offenses Involving Public Officials), through the amendment cycle ending May 1, 2004; (4) continuation of its policy work relating to the USA PATRIOT ACT, Pub. L. 107-56, nuclear, biological, and chemical weapons offenses, and other terrorism offenses, including offenses created by the Public Health Security and Bioterrorism Preparedness and Response Act of 2002, Pub. L. 107-188, and the Terrorist Bombings Convention Implementation Act of 2002, Pub. L. 107-197; (5) continuation of its work on the 15 Year Study, which is composed of a number of projects geared toward analyzing the guidelines in light of the goals of sentencing reform described in the Sentencing Reform Act and the statutory purposes of sentencing set forth in 18 U.S.C. 3553(a)(2); (6) continuation, through the amendment cycle ending May 1, 2004, of its research, policy work, and possible guideline amendments relating to Chapter Four (Criminal History and Criminal Livelihood), which may include (A) assessment of the calculation of criminal history points for first time offenders and offenders who are in the highest criminal history categories; (B) assessment of the criminal history rules for minor offenses, juvenile offenses, and expunged convictions; (C) assessment of the criminal history rules for related cases; and (D) consideration of other application issues relating to simplifying the operation of Chapter Four; (7) § 3E1.1 (Acceptance of Responsibility), which may include an assessment of downward adjustments given for timely entry of a guilty plea prior to trial preparation, provision of information regarding the defendant's role in the offense, and the criteria for demonstrating acceptance of responsibility; (8) consideration, through the amendment cycle ending May 1, 2004, of amendment proposals pertaining to compassionate release programs; and (9) other miscellaneous and limited issues pertaining to the operation of the sentencing guidelines, including (A) offenses involving trafficking in oxycodone; (B) offenses involving trafficking in red phosphorous; (C) offenses involving the unlawful sale or transportation of drug paraphernalia; (D) § 5G1.3 (Imposition of a Sentence on a Defendant Subject to an Undischarged Term of Imprisonment); and (E) policies for voluntary disclosure of offense conduct by defendants (§ 5K2.16 (Voluntary Disclosure of Offense)) and related guidelines. The Commission also will continue to provide its assistance to Congress and the Administration with respect to the Commission's report to Congress, Cocaine and Federal Sentencing Policy, which was submitted in May 2002.

Authority: 28 U.S.C. 994(a), (o); USSC Rules of Practice and Procedure 5.2.

Diana E. Murphy,
Chair.

[FR Doc. 02-22541 Filed 9-03-02; 8:45 am]

BILLING CODE 2211-01-P